DEPARTMENT OF TRANSPORTATION

Research and Innovative Technology Administration

Advisory Council on Transportation Statistics; Notice of Meeting

AGENCY: Research and Innovative Technology Administration (RITA), U.S. Department of Department of Transportation.

ACTION: Notice.

This notice announces, pursuant to Section 10(a)(2) of the Federal Advisory Committee Act (FACA) (Pub. L. 72-363; 5 U.S.C. app. 2), a meeting of the Advisory Council on Transportation Statistics (ACTS). The meeting will be held on Tuesday, November 19th from 8:30 a.m. to 4:00 p.m. E.S.T. in the DOT Conference Center at the U.S. Department of Transportation, 1200 New Jersey Ave. SE., Washington, DC. Section 52011 of the Moving Ahead for Progress in the 21st Century Act (MAP-21) directs the U.S. Department of Transportation to establish an Advisory Council on Transportation Statistics subject to the Federal Advisory Committee Act (5 U.S.C., App. 2) to advise the Bureau of Transportation Statistics (BTS) on the quality, reliability, consistency, objectivity, and relevance of transportation statistics and analyses collected, supported, or disseminated by the Bureau and the Department. The following is a summary of the draft meeting agenda: (1) USDOT welcome and introduction of Council Members; (2) Follow-up discussion of the usefulness and visibility of current BTS products; (3) Follow-up discussion of strategies for assuring and enhancing quality of BTS products; (4) Future directions for BTS programs; (5) Public Comments and Closing Remarks. Participation is open to the public. Members of the public who wish to participate must notify Courtney Freiberg at Courtney.Freiberg@dot.gov, not later than November 14, 2013. Members of the public may present oral statements at the meeting with the approval of Patricia Hu, Director of the Bureau of Transportation Statistics. Noncommittee members wishing to present oral statements or obtain information should contact Courtney Freiberg via email no later than November 14, 2013.

Questions about the agenda or written comments may be emailed (Courtney.Freiberg@dot.gov) or submitted by U.S. Mail to: U.S. Department of Transportation, Research and Innovative Technology Administration, Bureau of Transportation Statistics, Attention: Courtney Freiberg, 1200 New Jersey Avenue SE., Room # E34-429, Washington, DC 20590, or faxed to (202) 366-3640. BTS requests that written comments be received by November 14, 2013. Access to the DOT Headquarters building is controlled therefore all persons who plan to attend the meeting must notify Courtney Freiberg at 202-366-1270 prior to November 14, 2013. Individuals attending the meeting must report to the main DOT entrance on New Jersey Avenue SE. for admission to the building. Attendance is open to the public, but limited space is available. Persons with a disability requiring special services, such as an interpreter for the hearing impaired, should contact Courtney Freiberg at 202-366-1270 at least seven calendar days prior to the meeting.

Notice of this meeting is provided in accordance with the FACA and the General Services Administration regulations (41 CFR part 102-3) covering management of Federal advisory committees.

Issued in Washington, DC, on the 23rd day of October 2013.
Rolf Schmitt,
Deputy Director, Bureau of Transportation Statistics.

[FR Doc. 2013-26126 Filed 11-1-13; 8:45 am]

BILLING CODE 4910-HY-P